DEPARTMENT OF THE INTERIOR

National Park Service

Delaware Water Gap National Recreation Area Citizen Advisory Commission Meeting

AGENCY: National Park Service, Interior.

ACTION: Notice of meeting.

SUMMARY: This notice announces four public meetings of the Delaware Water Gap National Recreation Area Citizen Advisory Commission. Notice of these meetings is required under the Federal Advisory Committee Act (Pub. L. 92-463).

Meeting Date and Time: Monday, November 24, 2003, at 7 p.m.

Address: Pocono Environmental Education Center, Brisco Mountain Road, Dingmans Ferry, PA 18328.

The agenda will include reports from Citizen Advisory Commission members including the establishment of Commission committees such as Recruitment, Natural Resources, Inter-governmental Cultural Resources, Special Projects, and Public Visitation and Tourism.

Superintendent John J. Donahue will give a report on various park issues, including cultural resources, natural resources, construction projects, and partnership ventures. The agenda is set up to invite the public to bring issues of interest before the Commission.

Meeting Date and Time: Saturday, January 10, 2004, at 9 a.m. (snow date January 17).

Address: Mohican Outdoor Center, 50 Camp Road, Blairstown, NJ 07825-9655.

The agenda will include reports from Citizen Advisory Commission Committees, including Recruitment, Natural Resources, Inter-governmental Cultural Resources, Special Projects, and Public Visitation and Tourism. Superintendent John J. Donahue will give a report on various park issues, including cultural resources, natural resources, construction projects, and partnership ventures. The agenda is set up to invite the public to bring issues of interest before the Commission.

Meeting Date and Time: Thursday, March 4, 2004, at 7 p.m.

Address: Bushkill Visitor Center, Route 209, Bushkill PA 18324.

The agenda will include reports from Citizen Advisory Commission Committees, including Recruitment, Natural Resources, Inter-governmental Cultural Resources, Special Projects, and Public Visitation and Tourism. Superintendent John J. Donahue will give a report on various park issues, including cultural resources, natural resources, construction projects, and partnership ventures. The agenda is set up to invite the public to bring issues of interest before the Commission.

Meeting Date and Time: Thursday, March 4, 2004, at 7 p.m.

Address: Bushkill Visitor Center, Route 209, Bushkill PA 18324.

This is the annual meeting of the Commission held for the election of officers for the 2004-2005 term.

SUPPLEMENTARY INFORMATION: The Delaware Water Gap National Recreation Area Citizen Advisory Commission was established by Public Law 100-573 to advise the Secretary of the Interior and the United States Congress on matters pertaining to the management and operation of the Delaware Water Gap National Recreation Area, as well as on other matters affecting the recreation area and its surrounding communities.

FOR FURTHER INFORMATION, CONTACT: Superintendent, Delaware Water Gap National Recreation Area, Bushkill, PA 18324, (570) 588-2418.

Dated: September 18, 2003.
John J. Donahue,
Superintendent.

[FR Doc. 03-28839 Filed 11-18-03; 8:45 am]

BILLING CODE 4310-MY-P